DEPARTMENT OF HEALTH AND HUMAN SERVICES

Administration for Children and Families

[ACYF CB-2000-02]

Grant to National Conference of State Legislatures

AGENCY: Administration on Children, Youth and Families (ACYF), ACF, DHHS.

ACTION: Notice of award.

SUMMARY: Notice is hereby given that ACYF will award grant funds without competition to the National Conference of State Legislatures (NCSL). This grant is a sole source award which will assist State legislatures in addressing “second generation” issues arising from implementation of the Adoption and Safe Families Act (ASFA) and to educate legislators on the new Child Welfare rules that impact existing State Plan requirements. This award is made non-competitively after our review of an unsolicited proposal submitted by NCSL.

1. Background: NCSL has a unique relationship with State legislatures that enables them to help legislators understand critical child welfare issues in light of recent changes to Federal law and policy. NCSL is a bipartisan, non-profit organization that serves the Nation's legislatures and staff. It is an instrumentality of the States, providing informational services to State legislators, allowing them to make policy decisions based on reliable, objective and comprehensive analyses. In addition to providing research, publications, and consultative services, NCSL provides policymakers with the opportunity to exchange ideas and communicate with each other on the most pressing problems States face, as well as solutions that work. NCSL plans to accomplish these goals through special briefings, publications, delivering on-site technical assistance, holding special sessions at regular NCSL meetings, and the tracking of State child welfare legislation.

Following our review of the proposal submitted by the NCSL for these activities, this award is made noncompetitively. The NCSL proposal presents a unique opportunity to establish a continuing dialogue with State legislatures across the country.

2. The project period will be for 17 months, beginning September 29, 2000 and ending February 28, 2002. The grantee will be awarded $193,301 during the project period.

Authority: This award will be made pursuant to Title IV-E of the Social Security Act.

FOR FURTHER INFORMATION CONTACT: Pat Hagen, Children's Bureau, Administration on Children, Youth and Families, 330 C Street, SW, Room 2420, Washington, DC 20447; Telephone: (202) 205-8575.

Dated: August 11, 2000.
Patricia Montoya,
Commissioner, Administration on Children, Youth and Families.

[FR Doc. 00-20950 Filed 8-16-00; 8:45 am]

BILLING CODE 4184-01-M